DEPARTMENT OF ENERGY

Federal Energy Regulatory Commission

[IC06-715-001, FERC 715]

Commission Information Collection Activities, Proposed Collection; Comment Request; Extension

December 8, 2006.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of August 30, 2006 (71 FR 51589-51590) and has made this notation in its submission to OMB.

DATES: Comments on the collection of information are due by January 16, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC07-715-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC 715 “Annual Transmission Planning and Evaluation Report”

2. Sponsor: Federal Energy Regulatory Commission

3. Control No.: 1902-0171

The Commission is now requesting that OMB approve and extend the expiration date for an additional three years with no changes to the existing collection. The information filed with the Commission is mandatory.

4. Necessity of the Collection of Information: Submission of the information is necessary for the Commission to carry out its responsibilities in implementing the statutory provisions of section 213(b) of the Federal Power Act (FPA), as amended by the Energy Policy Act of 1992. Through Section 213(b) Congress requires the Commission to collect annually from transmitting utilities, certain transmission system information and make it available to potential transmission providers, customers and state regulatory authorities. This information collection also supports the Commission's responsibilities under Sections 202, 207, 210-213, 304, 309 and 311 of the FPA, as amended (49 Stat. 838; 16 U.S.C. 791a-825r). The Commission's FERC-715 filing requirements are published in the Code of Federal Regulations (CFR), 18 CFR 141.300.

Through the FERC-715, the Commission gathers basic electric transmission system information. The Commission staff use the FERC-715 information to evaluate available transmission capacity and assess transmission reliability. Electrical transmission customers and transmission dependent utilities use the information, in conjunction with other information sources, to assess transmission availability. Federal and private agencies use the information in transmission simulations to test the impact of changes to the transmission system, necessary to improve system functioning. FERC-715 filing instructions are provided on the Commission's Web site at http://www.ferc.gov/docs-filings/elibrary.asp.

Some or all of the information collected on the FERC-715 may be treated as Critical Energy Infrastructure Information (CEII) (see Order 630, OMB Control No. 1902-0197). CEII is information concerning proposed or existing critical infrastructure (physical or virtual) that:

1. Relates to the production, generation, transmission or distribution of energy;

2. Could be useful to a person planning an attack on critical infrastructure;

3. Is exempt from mandatory disclosure under the Freedom of Information Act; and

4. Gives strategic information beyond the location of the critical infrastructure.

CEII is not available to the public. The Commission has established procedures for gaining access to CEII that would otherwise not be available under the Freedom of Information Act (FOIA) requests. These actions are necessary to keep highly sensitive infrastructure information out of the public domain thus decreasing the likelihood that such information could be used to plan and execute terrorist attacks.

5. Respondent Description: The respondent universe currently comprises 85 companies (on average) subject to the Commission's jurisdiction.

6. Estimated Burden: 9,913 total hours, 85 respondents (average), 1 response per respondent, and 117 hours per response (average)

7. Estimated Cost Burden to respondents: 9,913 hours/2080 hours per years × $117,321 per year = $ 559,136. The cost per respondent is equal to $6,578.

Statutory Authority: Statutory provisions of sections 4, 5, 7, 8, 10, 14, 16, and 20 of the Natural Gas Act (NPA) 15 U.S.C. 717-717w and Title II, section 311 and sections 501 and 504 of the Natural Gas Policy Act (Pub. L. 95-621).

Magalie R. Salas,
Secretary.

[FR Doc. E6-21383 Filed 12-14-06; 8:45 am]

BILLING CODE 6717-01-P